SMALL BUSINESS ADMINISTRATION

Privacy Act of 1974 System of Records Notice

AGENCY: Small Business Administration.

ACTION: Notice of new system of records.

SUMMARY: The Small Business Administration is adding a new system of records to the Agency's Privacy Act System of Records. The new system collects and maintains personal and commercial information on individuals named in loan files, throughout the life of SBA's interest in the loan, under all of the Agency's business (non-disaster) loan programs. Data collected will be used by Headquarters, Regional Offices, District Offices, Branch Offices, Processing Centers, Servicing Centers, SBA Resource Partners, (i.e., participating lenders, Certified Development Companies, lending program intermediaries), contractors and qualified investors. Data will be used for Lender Oversight, Loan Monitoring, Portfolio Risk Management and Asset Sales.

DATES: The new system will be effective without further notice November 25, 2002, unless comments are received that result in a need for modification.

ADDRESSES: Address comments to LeAnn M. Oliver, Deputy Associate Administrator for Financial Assistance, Small Business Administration, 409 3rd Street, SW., Washington, DC 20416.

FOR FURTHER INFORMATION CONTACT: Steve Kucharski, Office of Financial Assistance (202) 205 7551.

SBA 170

System Name:

Loan Monitoring System (LMS), U.S. Small Business Administration (SBA).

System Location:

SBA Headquarters, Regional Offices, District Offices, Branch Offices, Processing Centers, and Servicing Centers (see Appendix A for addresses).

Categories of Individuals Covered by the System:

Individuals (i.e. borrowers, guarantors, principals of businesses named in loan records), throughout the life of SBA's interest in a loan, under all of the Agency's business (non-disaster) loan programs.

Categories of Records in the System:

Personal and commercial information (i.e. credit history, financial information, identifying number or other personal identifier ) on individuals named in business loan files, throughout the life of SBA's interest in the loan, under all of the Agency's business (non-disaster) loan programs.

Authority for Maintenance of the System:

Pub. L. 85-536, 15 U.S.C. 631 et seq. (Small Business Act, all provisions relating to loan programs); 5 U.S.C. 301; 44 U.S.C. 3101 (Records Management by Federal Agencies); and Pub. L. 103-62 (GPRA).

Routine Uses of Records Maintained in the System, Including Categories of Users and the Purposes of Such Uses, these Records May Be Used, Disclosed, or Referred:

(a) To the SBA Resource Partner, its successors or assigns, (i.e. participating lender, certified development company, micro lender) who initially collected the individual's information for the purpose of making and servicing loans.

(b) To a Congressional office from an individual's record when the office is inquiring on the individual's behalf. The Member's access rights are no greater than the individual's.

(c) To the Federal, state, local or foreign agency or organization which investigates, prosecutes, or enforces violations, statues, rules, regulations, or orders issued when an agency identifies a violation or potential violation of law, arising by general or program statute, or by regulation, rule, or order.

(d) To Agency volunteers, interns, experts and contractors for use in their official duties.

(e) To qualified investors who have signed a confidentiality agreement related to review of files for the purpose of evaluating, negotiating and implementing the purchase of loans from the Agency as a part of the Agency's Asset Sales program.

(f) To the Department of Justice (DOJ) when:

(1) The agency, or any component thereof; or

(2) Any employee of the agency in his or her official capacity; or

(3) Any employee of the agency in his or her individual capacity where the DOJ has agreed to represent the employee; or

(4) The United States Government, where the agency determines that litigation is likely to affect the agency or any of its components;

is a party to litigation or has an interest in such litigation, and the use of such records by the DOJ is deemed by the agency to be relevant and necessary to the litigation, provided, however, that in each case, the agency determines that disclosure of the records to the DOJ is a use of the information contained in the records that is compatible with the purpose for which the records were collected.

(g) To disclose them in a proceeding before a court or adjudicative body before which the Agency is authorized to appear, when:

(1) The agency, or any component thereof; or

(2) Any employee of the agency in his or her official capacity; or

(3) Any employee of the agency in his or her individual capacity where the agency has agreed to represent the employee; or

(4) The United States Government, where the agency determines that litigation is likely to affect the agency or any of its components,

is a party to litigation or has an interest in such litigation, and the agency determines that use of such records is relevant and necessary to the litigation, provided, however, that in each case, the agency determines that disclosure of the records to a court or other adjudicative body is a use of the information contained in the records that is compatible with the purpose for which the records were collected.

(h) To request information from a Federal, State, local agency or a private credit agency maintaining civil, criminal or other information relevant to determining an applicant's suitability for a business loan. This applies to individuals involved in business loans.

(i) To a recipient who has provided the agency with advance adequate written assurance that the record will be used solely as a statistical research or reporting record, and the record is to be transferred in a form that is not individually identifiable.

Policies and Practices for Storing, Retrieving, Accessing, Retaining and Disposing of Records:

Storage:

Electronic Records are in a secure server and paper records are in files. Loan files are in a secured area, sometimes locked files, sometimes locked file rooms.

Retrievability:

Electronic Records: By individual name, personal identifier, SBA Identifier, Participating Lender Identifier, Participating Lender Name, business name, and business identifier.

Paper Records: By individual name, personal identifier and SBA Identifier.

Safeguards:

Electronic Records: Access and use is limited to Agency officials acting in their official capacities, with a need-to-know, and to SBA Resource Partners. Access and use by SBA Resource Partners will generally be via the Internet, with restricted password(s)/passcode(s). SBA Resource Partners, their successors or assigns, will have access only to those individual records that were collected by that particular partner. Information contained in files will be available only to potential asset sale purchasers who have executed a confidentiality agreement. Only SBA employees in the performance of their official duties, who are granted access to the records by Agency issuance of User IDs and/or passcodes, may amend or review the records.

Paper Records: Access and use is limited to Agency officials acting in their official capacities, with a need-to-know. SBA Resource Partners, their successors or assigns, will have access only to those individual records that were collected by that particular partner. Information contained in loan files will be available only to potential asset sale purchasers who have executed a confidentiality agreement. Only those SBA employees in the performance of their official duties may amend or review the records.

Retention and Disposal:

In accordance with SBA SOP 00 41 2, Item Nos. 50:04, 50:08, 50:09, 50:10, 50:11, 50:12, 50:13, 50:19, 50:22, 55:02. Records are retained for the life of SBA's interest in the business loan and are disposed of according to the reference in the SOP that pertains to a particular type of record; retention period varies according to the type of record.

System Manager(s) and Address(es):

Associate Administrator for Capital Access, Associate Administrator for Lender Oversight, Regional Administrators, District Directors, Branch Managers, Loan Service Center Directors, and Loan Processing Centers Directors (see Appendix A for addresses).

Notification Procedure:

An individual may submit a written record inquiry to the appropriate Systems Manager or Privacy Act Officer. Individuals inquiring about this system must follow the SBA Privacy Act Regulations at 13 CFR part 102 subpart B.

Records Access Procedures:

Systems Manager or Privacy Act Officer will determine procedures. Individuals inquiring about this system must follow the SBA Privacy Act Regulations at 13 CFR part 102 subpart B.

Contesting Record Procedures:

Notify the official listed above and state reason(s) for contesting and the proposed amendment sought, as indicated in 13 CFR part 102 subpart B.

Record Source Categories:

Individuals and businesses to whom the record belongs, financial institutions, credit reporting agencies, law enforcement agencies and SBA resource partners.

Dated: June 27, 2002.
Christopher Holleman,
Acting Senior Privacy Act Official.

[FR Doc. 02-27061 Filed 10-23-02; 8:45 am]

BILLING CODE 8025-01-P